DEPARTMENT OF TRANSPORTATION

Federal Aviation Administration

Notice of Intent of Waiver With Respect to Land; West Michigan Regional Airport, Holland, Michigan

AGENCY: Federal Aviation Administration (FAA), DOT.

ACTION: Notice.

SUMMARY: The FAA is considering a proposal to change 18.8 acres of airport land from aeronautical use to non-aeronautical use and to authorize the sale of airport property located at the West Michigan Regional Airport, Holland, Michigan. The aforementioned land is not needed for aeronautical use. The property is located near the southeast corner of 64th Street and CSX Transportation Railroad. It is currently vacant, undeveloped land with no future aeronautical use identified. The property is proposed to be sold for a future non-aeronautical airport compatible land use.

DATES: Comments must be received on or before June 25, 2021.

ADDRESSES: Documents are available for review by appointment at the FAA Detroit Airports District Office, Marlon Peña, Program Manager, 11677 South Wayne Road, Suite 107, Romulus, Michigan 48174, Telephone: (734) 229-2909/Fax: (734) 229-2950 and West Michigan Airport Authority (WMAA), 60 Geurink Boulevard, Holland, Michigan 49423, (616) 392-7831.

Written comments on the Sponsor's request must be mailed to: Marlon Peña, Program Manager, Federal Aviation Administration, Detroit Airports District Office, 11677 South Wayne Road, Suite 107, Romulus, Michigan 48174, Telephone Number: (734) 229-2909/Fax Number: (734) 229-2950.

FOR FURTHER INFORMATION CONTACT: Marlon Peña, Program Manager, Federal Aviation Administration, Detroit Airports District Office, 11677 South Wayne Road, Suite 107, Romulus, Michigan 48174. Telephone Number: (734) 229-2909/Fax Number: (734) 229-2950.

SUPPLEMENTARY INFORMATION: In accordance with section 47107(h) of Title 49, United States Code, this notice is required to be published in the Federal Register 30 days before modifying the land-use assurance that requires the property to be used for an aeronautical purpose.

The property is vacant undeveloped land with no current or future aeronautical use. This property is part of a larger area containing 63.4 acres of land that was acquired under federal Airport Improvement Program Grant #3-26-0045-0487. The Airport Sponsor is proposing to sell 18.8 acres of this land at fair market value. It is anticipated that the land would be used for airport compatible development of light industrial use or office space with associated parking lot.

The disposition of proceeds from the sale of the airport property will be in accordance with FAA's Policy and Procedures Concerning the Use of Airport Revenue, published in the Federal Register on February 16, 1999 (64 FR 7696).

This notice announces that the FAA is considering the release of the subject airport property at the West Michigan Regional Airport, Holland, Michigan from federal land covenants, subject to a reservation for continuing right of flight as well as restrictions on the released property as required in FAA Order 5190.6B section 22.16. Approval does not constitute a commitment by the FAA to financially assist in the disposal of the subject airport property nor a determination of eligibility for grant-in-aid funding from the FAA.

Land Description

Parcel K: Part of the Southwest ¼ of Section 9, Town 4 North, Range 15 West, City of Holland, Allegan County, Michigan, described as: Commencing at the Southwest corner of said Section; thence S89°48′46″ E 1412.19 feet along the South line of said Section to the Point of Beginning; thence N05°56′42″ W 1009.47 feet along the East line of the CSX Railroad right-of-way; thence N80°53′23″ E 760.52 feet; thence N89°25′13″ E 571.84 feet; thence S00°43′17″ E 276.36 feet along the North-South ¼ line of said Section; thence N89°48′46″ W 660.00 feet; thence S00°43′17″ E 758.99 feet; thence N89°48′46″ W 165.10 feet; thence S00°43′17″ E 99.01 feet; thence N89°48′46″ W 407.37 feet along said South line to the Point of Beginning. Contains 18.80 acres. Subject to highway right-of-way for 64th Street over the Southerly most 33.00 feet thereof. Subject to easements, restrictions and rights-of-way of record.

Issued in Romulus, Michigan, on May 21, 2021.
Stephanie Swann,
Acting Manager, Detroit Airports District Office, FAA, Great Lakes Region.

[FR Doc. 2021-11129 Filed 5-25-21; 8:45 am]

BILLING CODE 4910-13-P